DEPARTMENT OF ENERGY

Federal Energy Regulatory Commission

[Docket No. EL06-82-000]

PPM Energy, Inc., Complainant v. PacifiCorp, Respondent; Notice of Complaint Filing

July 19, 2006.

Take notice that on July 14, 2006, pursuant to the sections 206 and 306 of the Federal Power Act and Rule 206 of the Commission's Rules of Practice and Procedure, 18 CFR 385.206, PPM Energy, Inc. (Complainant) filed a complaint against PacifiCorp, alleging that PacifiCorp improperly assessed the Complainant charges for having allegedly used PacifiCorp's transmission system without authorization since December 2004. The Complainant also has requested fast track processing for this complaint.

The Complainant states that copies of the complaint were served on contacts for PacifiCorp as listed on the Commission's Corporate Officials List.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 14, 2006.

Magalie R. Salas,
Secretary.

[FR Doc. E6-11887 Filed 7-25-06; 8:45 am]

BILLING CODE 6717-01-P